FEDERAL RETIREMENT THRIFT INVESTMENT BOARD

Sunshine Act; Notice of Meeting

TIME AND DATE: 10:00 a.m. (EST) Telephonic February 24, 2014.

PLACE: 10th Floor Board Meeting Room, 77 K Street NE.,Washington, DC 20002.

STATUS: Open.

MATTERS TO BE CONSIDERED:

1. Approval of the Minutes of the January 27, 2014 Board Meeting

2. Monthly Reports

Participant Activity Report

Investment Report

Legislative Report

3. Quarterly Metrics Report

4. Audit Reports

5. L Fund Naming Options

CONTACT PERSON FOR MORE INFORMATION: Kimberly Weaver, Director, Office of External Affairs, (202) 942-1640.

Dated: February 18, 2014.
Laurissa Stokes,
Acting Deputy General Counsel, Federal Retirement Thrift Investment Board.

[FR Doc. 2014-03713 Filed 2-18-14; 4:15 pm]

BILLING CODE 6760-01-P